CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled the AmeriCorps NCCC Medical and Mental Health Information Form for review and approval in accordance with the Paperwork Reduction Act of 1995, Public Law 104-13, (44 U.S.C. Chapter 35). Copies of this ICR, with applicable supporting documentation, may be obtained by calling the Corporation for National and Community Service, Tara Lind-Zajac, at 202-606-6702 or email to TLindZajac@cns.gov. Individuals who use a telecommunications device for the deaf (TTY-TDD) may call 1-800-833-3722 between 8:00 a.m. and 8:00 p.m. Eastern Time, Monday through Friday.

DATES: Comments may be submitted, identified by the title of the information collection activity, within October 31, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on Wednesday, May 18, 2016, at 81 FR 31227. This comment period ended July 18, 2016. No public comments were received from this Notice.

Description: The AmeriCorps NCCC Medical and Mental Health Information Form will be used to assess whether an individual has the physical and mental capacity required to perform the essential functions of the AmeriCorps NCCC member position, with or without reasonable accommodation, for which he or she is otherwise eligible.

Type of Review: New.

Agency: Corporation for National and Community Service.

Title: AmeriCorps NCCC Medical and Mental Health Information Form.

OMB Number: New.

Agency Number: None.

Affected Public: Applicants to AmeriCorps NCCC.

Total Respondents: Approximately 8,500 per year.

Frequency: Once per completed NCCC application.

Average Time per Response: Averages 15 minutes.

Estimated Total Burden Hours: 2,125 hours.

Total Burden Cost (capital/startup): None.

Total Burden Cost (operating/maintenance): None.

Charles Davenport,
Director of Recruitment, Selection, and Placement.

[FR Doc. 2016-23487 Filed 9-28-16; 8:45 am]

BILLING CODE 6050-28-P